BUREAU OF CONSUMER FINANCIAL PROTECTION

[Docket No. CFPB-2020-0016]

Agency Information Collection Activities: Comment Request

AGENCY: Bureau of Consumer Financial Protection.

ACTION: Notice and request for comment.

SUMMARY: In accordance with the Paperwork Reduction Act of 1995 (PRA), the Bureau of Consumer Financial Protection (Bureau) is requesting a new information collection titled, “Start Small, Save Up Workforce Questionnaire.”

DATES: Written comments are encouraged and must be received on or before August 3, 2020 to be assured of consideration.

ADDRESSES: You may submit comments, identified by the title of the information collection, OMB Control Number (see below), and docket number (see above), by any of the following methods:

• Federal eRulemaking Portal: http://www.regulations.gov. Follow the instructions for submitting comments.

• Email: PRA_Comments@cfpb.gov. Include Docket No. CFPB-2020-0016 in the subject line of the message.

• Mail/Hand Delivery/Courier: Comment Intake, Bureau of Consumer Financial Protection (Attention: PRA Office), 1700 G Street NW, Washington, DC 20552.

Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION:

Title of Collection: Start Small, Save Up Workforce Questionnaire.

OMB Control Number: 3170-XXXX.

Type of Review: Request for a new OMB Control Number.

Affected Public: Individuals and households.

Estimated Number of Respondents: 2,000.

Estimated Total Annual Burden Hours: 1,000.

Abstract: This short questionnaire evaluates the respondent's current savings habits, behaviors, and attitudes. It evaluates the respondent's level of financial well-being, a subjective state wherein a person has a sense of financial security and financial freedom of choices, in the present and for the future.

The questionnaire gives the Bureau an efficient way to measure the effectiveness of financial education and other efforts in increasing consumers' liquid savings and financial well-being. Information will be gathered from those in the Bureau workforce, which includes Federal employees as well as contractors and other job statuses. The questionnaire may also be made available for use by other Federal agencies. The questionnaire asks about the respondent's recent experiences with unexpected financial shocks, the respondent's savings cushion available for emergencies, the respondent's savings behavior and savings vehicles. It includes the five-question version of the Bureau's Financial Well-Being Scale.

The Bureau can use the information collected to connect savings and financial well-being, and to inform future development of employer-sponsored financial education materials and programs.

REQUEST FOR COMMENTS:

Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: May 28, 2020.
Darrin King,
Paperwork Reduction Act Officer, Bureau of Consumer Financial Protection.

[FR Doc. 2020-11901 Filed 6-2-20; 8:45 am]

BILLING CODE 4810-AM-P